DEPARTMENT OF ENERGY

Federal Energy Regulatory Commission

Notice of Draft License Application and Preliminary Draft Environmental Assessment (PDEA) and Request for Preliminary Terms and Conditions

November 14, 2001.

Take notice that the following hydroelectric application has been filed with the Commission and is available for public inspection.

a. Type of Application: Draft—Two New Major Licenses.

b. Project Nos.: 2364-011 and 2365-022.

c. Date Filed: November 14, 2001.

d. Applicant: Madison Paper Industries.

e. Name of Projects: Abenaki and Anson Projects.

f. Location: On the Kennebec River, in the towns of Anson and Madison, Somerset County, Maine.

g. Filed Pursuant to: Federal Power Act 16 U.S.A. 791(a)-825(r).

h. Applicant Contact: David Lovley, Madison Paper Industries, P.O. Box 129, Main Street, Madison, ME 04950, (207) 696-1225.

i. FERC Contact: Nan Allen, (202) 219-2938, e-mail: nan.allen@ferc.fed.us.

j. Status of Project: With this notice the Commission is soliciting (1) preliminary terms, conditions, and recommendations on the Preliminary Draft Environmental Assessment (DEA), and (2) comments on the Draft License Application.

k. Deadline for filing: February 14, 2002.

All comments on the Preliminary DEA and Draft License Application should be sent to the address noted above in Item (h), and one copy filed with the following address: David P. Boergers, Secretary, Federal Energy Regulatory Commission, 888 First Street, NE, Washington, DC 20426. All comments must include the projects' names and numbers and bear the heading Preliminary Comments, Preliminary Recommendations, Preliminary Terms and Conditions, or Preliminary Prescriptions.

Comments and preliminary recommendations, terms and conditions, and prescriptions may be filed electronically via the Internet in lieu of paper. See 18 CFR 385.2001(a)(1)(iii) and the instructions on the Commission's web site (http://www.ferc.gov) under the “e-Filing” link.

l. A copy of the application is on file with the Commission and is available for public inspection. This filing may also be viewed on the web at http://www.ferc.gov using the “RIMS” link—select “Docket #” and follow the instructions (call 202-208-2222 for assistance).

Madison Paper Industries. has mailed a copy of the Preliminary DEA and Draft License Application to interested entities and parties. Copies of these documents are available for review at Madison Paper Industries, P.O. Box 129, Main Street, Madison, ME 04950, (207) 696-1225.

m. With this notice, we are initiating consultation with the Maine State Historic Preservation Officer (SHPO), as required by section 106, National Historic Preservation Act, and the regulations of the Advisory Council on Historic Preservation, 36 CFR 800.4.

David P. Boergers,
Secretary.

[FR Doc. 01-28952 Filed 11-19-01; 8:45 am]

BILLING CODE 6717-01-P